ENVIRONMENTAL PROTECTION AGENCY

[EPA-HQ-OPPT-2019-0677; FRL-10010-37]

Preliminary Lists Identifying Manufacturers Subject to Fee Obligations for EPA-Initiated Risk Evaluations Under Section 6 of the Toxic Substances Control Act (TSCA); Notice of Availability and Request for Comment; Extension of the Comment Period

AGENCY: Environmental Protection Agency (EPA).

ACTION: Notice; extension of the comment period.

SUMMARY: EPA is extending the comment period for a notice issued in the Federal Register of January 27, 2020, announcing the availability of the preliminary lists of manufacturers (including importers) of 20 chemical substances that have been designated as a High-Priority Substance for risk evaluation under the Toxic Substances Control Act (TSCA) and for which fees will be charged. The original comment period and window for self-identification was previously extended by 60-days, and this document provides an additional extension, from May 27, 2020 to June 15, 2020.

DATES: Comments must be received on or before June 15, 2020.

ADDRESSES: Follow the detailed instructions provided under ADDRESSES in the Federal Register document of January 27, 2020 (85 FR 4661) (FRL-10003-14).

FOR FURTHER INFORMATION CONTACT: For technical information contact: Benjamin Dyson, Environmental Assistance Division (7408M), Office of Pollution Prevention and Toxics, Environmental Protection Agency, 1200 Pennsylvania Ave. NW, Washington, DC 20460-0001; telephone number: (202) 774-8976; email address: dyson.benjamin@epa.gov.

For general information contact: The TSCA-Hotline, ABVI-Goodwill, 422 South Clinton Ave., Rochester, NY 14620; telephone number: (202) 554-1404; email address: TSCA-Hotline@epa.gov.

SUPPLEMENTARY INFORMATION: This document provides an additional extension for the public comment period and window for self-identification that was originally established in the Federal Register document of January 27, 2020 (85 FR 4661) (FRL-10003-14), and previously extended from March 27, 2020 to May 27, 2020 in the Federal Register document of March 13, 2020 (85 FR 14677) (FRL-10006-03). EPA is providing this additional extension of the comment period in response to requests for additional time for comment and self-identification.

In the January document, EPA published preliminary lists identifying manufacturers (including importers) that may be subject to fee obligations under 40 CFR 700.45, associated with each EPA-initiated risk evaluation of 20 High-Priority Substances under TSCA section 6. That document also announced that EPA was providing an opportunity for public comment during which manufacturers (including importers) are required to self-identify as a manufacturer (including importer) of a High-Priority Substance, irrespective of whether they are listed on the preliminary list. During the comment period, manufacturers and importers may make certain certifications to EPA under 40 CFR 700.45(b) to avoid or reduce fee obligations. The public also has the opportunity to correct errors or provide comments on the preliminary lists.

EPA is providing more than the minimum 30-day comment period established in the Fees Rule codified at 40 CFR 700.45(b)(4) to maximize public participation during the first comment period for an initial list of manufacturers (including importers) subject to fee obligations for EPA-initiated risk evaluations under TSCA section 6, and to provide more time for self-identification. EPA expects to publish final lists of manufacturers (including importers) subject to fees no later than concurrently with the publication of the final scope document for risk evaluations of the 20 High-Priority Substances. Manufacturers (including importers) identified on the final lists will be subject to applicable fees under 40 CFR 700.45.

To submit comments, or access the docket, please follow the detailed instructions provided under ADDRESSES in the Federal Register document of January 27, 2020 (85 FR 4661) (FRL-10003-14). If you have questions, consult the technical person listed under FOR FURTHER INFORMATION CONTACT.

Authority: 15 U.S.C. 2625.

Dated: May 26, 2020.
Alexandra Dapolito Dunn,
Assistant Administrator, Office of Chemical Safety and Pollution Prevention.

[FR Doc. 2020-11591 Filed 5-27-20; 8:45 am]

BILLING CODE 6560-50-P